DEPARTMENT OF ENERGY

DOE/NSF Nuclear Science Advisory Committee

AGENCY: Office of Science, Department of Energy.

ACTION: Notice of open meeting.

SUMMARY: This notice announces an open virtual meeting of the DOE/NSF Nuclear Science Advisory Committee (NSAC). Due to the COVID-19 pandemic, this meeting will be held virtually for members of the public. The Federal Advisory Committee Act requires that public notice of these meetings be announced in the Federal Register.

DATES: Wednesday, July 13, 2022; 9:00 a.m.-3:30 p.m. (eastern time).

ADDRESSES: Information to participate virtually can be found on the NSAC website closer to the meeting at https://science.osti.gov/np/nsac/meetings.

FOR FURTHER INFORMATION CONTACT: Brenda L. May, Committee Manager, NSAC, Email: Brenda.May@science.doe.gov or Telephone: (301) 903-0536.

SUPPLEMENTARY INFORMATION:

Purpose of the Board: The purpose of the Board is to provide advice and guidance on a continuing basis to the Department of Energy and the National Science Foundation on scientific priorities within the field of basic nuclear science research.

Tentative Agenda

• Call to Order, Introductions, Review of the Agenda

• Perspectives from the Department of Energy and National Science Foundation

• Update from the Department of Energy and National Science Foundation's Nuclear Physics Office

• Presentation of new Charge for the Long-Range Plan

• Discussion of the Long-Range Plan Charge

• Update on DNP planning for Community Workshops

• NSAC Business/Discussions

• Public Comment

Public Participation: The meeting is open to the public. Please check the website below for updates and information on how to view the meeting. If you would like to file a written statement with the Committee, you may do so either before or after the meeting. If you would like to make oral statements regarding any of these items on the agenda, you should contact Brenda L. May at Brenda.May@science.doe.gov. You must make your request for an oral statement at least five business days before the meeting. Reasonable provisions will be made to include the scheduled oral statements on the agenda. The Chairperson of the Committee will conduct the meeting to facilitate the orderly conduct of business. Public comment will follow the 10-minute rule.

Minutes: The minutes of the meeting will be available for review on the U.S. Department of Energy's Office of Nuclear Physics website at https://science.osti.gov/np/nsac/meetings.

Signed in Washington, DC, on June 14, 2022.
LaTanya Butler,
Deputy Committee Management Officer.

[FR Doc. 2022-13189 Filed 6-17-22; 8:45 am]

BILLING CODE 6450-01-P